OFFICE OF GOVERNMENT ETHICS

5 CFR Part 2635

Standards of Ethical Conduct for Employees of the Executive Branch; Proposed Amendments Limiting Gifts From Registered Lobbyists and Lobbying Organizations; Extension of Comment Period

AGENCY: Office of Government Ethics (OGE).

ACTION: Proposed rule; extension of comment period.

SUMMARY: On September 13, 2011, the Office of Government Ethics published in the Federal Register proposed amendments to the regulation governing standards of ethical conduct for executive branch employees of the Federal Government to impose limits on the use of gift exceptions by all employees to accept gifts from registered lobbyists and lobbying organizations, and to implement the lobbyist gift ban for appointees required to sign the Ethics Pledge prescribed by Executive Order 13490. The public comment period closes on November 14, 2011. OGE is extending the comment period to December 14, 2011.

DATES: The comment period for the proposed rule published September 13, 2011, at 76 FR 56330, is extended. Comments must be submitted in writing and be received by December 14, 2011.

ADDRESSES: You may submit written comments to OGE on the proposed rule, identified by RIN 3209-AA04, by any of the following methods:

• Email: usoge@oge.gov. Include the reference “Proposed Amendments to Part 2635” in the subject line of the message.

• Fax: (202) 482-9237.

• Mail/Hand Delivery/Courier: Office of Government Ethics, Suite 500, 1201 New York Avenue NW., Washington, DC 20005-3917, Attention: Julia L. Eirinberg, Associate General Counsel.

Instructions: All submissions must include OGE's agency name and the Regulation Identifier Number (RIN), 3209-AA04, for the proposed rulemaking.

FOR FURTHER INFORMATION CONTACT: Julia L. Eirinberg, Associate General Counsel, Office of Government Ethics; telephone: (202) 482-9300; TYY: (800) 877-8339; FAX: (202) 482-9237.

SUPPLEMENTARY INFORMATION: A copy of the original proposed rulemaking notice is available at: http://www.gpo.gov/fdsys/pkg/FR-2011-09-13/html/2011-23311.htm.

Approved: November 9, 2011.
Don W. Fox,
Acting Director, Office of Government Ethics.

[FR Doc. 2011-29569 Filed 11-14-11; 8:45 am]

BILLING CODE 6345-03-P